DEPARTMENT OF ENERGY

Federal Energy Regulatory Commission

Combined Notice of Filings #1

Take notice that the Commission received the following electric rate filings:

Docket Numbers: ER10-1325-007; ER10-1330-005; ER10-1333-007; ER10-2032-006; ER10-2033-006; ER12-1946-007; ER12-2313-003; ER15-190-004; ER15-255-002; ER16-141-003; ER16-355-001; ER17-543-001.

Applicants: CinCap V LLC, Colonial Eagle Solar, LLC, Conetoe II Solar, LLC, Duke Energy Beckjord, LLC, Duke Energy Beckjord Storage, LLC, Duke Energy Commercial Enterprises, Inc., Duke Energy Kentucky, Inc., Duke Energy Ohio, Inc., Duke Energy Renewable Services, LLC, Duke Energy SAM, LLC, Laurel Hill Wind Energy, LLC, North Allegheny Wind, LLC.

Description: Triennial Market Power Analysis for the Northeast Region of Duke Energy Corporation subsidiaries.

Filed Date: 12/21/16.

Accession Number: 20161221-5457.

Comments Due: 5 p.m. ET 2/21/17.

Docket Numbers: ER11-2552-003; ER11-2554-003; ER11-2555-002; ER11-2556-003; ER11-2557-003; ER11-2558-003.

Applicants: Massachusetts Electric Company, Niagara Mohawk Power Corporation, New England Power Company, National Grid-Glenwood Energy Center, LLC, National Grid-Port Jefferson Energy Center, LLC, The Narragansett Electric Company.

Description: Updated Triennial Market Power Analysis of National Grid USA.

Filed Date: 12/20/16.

Accession Number: 20161220-5386.

Comments Due: 5 p.m. ET 2/21/17.

Docket Numbers: ER15-644-002.

Applicants: Idaho Power Company.

Description: Compliance filing: Order No. 676-H Compliance Filing Effective Tariff Version Correction to be effective 5/15/2015.

Filed Date: 12/22/16.

Accession Number: 20161222-5008.

Comments Due: 5 p.m. ET 1/12/17.

Docket Numbers: ER16-2602-002.

Applicants: 4C Acquisition, LLC.

Description: Tariff Amendment: Supplement to Application for Market-Based Rate Authorization of 4C Acquisition to be effective 1/9/2017.

Filed Date: 12/21/16.

Accession Number: 20161221-5414.

Comments Due: 5 p.m. ET 1/3/17.

Docket Numbers: ER17-604-000.

Applicants: NorthWestern Corporation.

Description: § 205(d) Rate Filing: SA 591 5th Rev—NITSA with Benefis Health System to be effective 3/1/2017.

Filed Date: 12/21/16.

Accession Number: 20161221-5403.

Comments Due: 5 p.m. ET 1/11/17.

Docket Numbers: ER17-605-000.

Applicants: NorthWestern Corporation.

Description: § 205(d) Rate Filing: SA 605 6th Rev—NITSA with Bonneville Power Administration to be effective 3/1/2017.

Filed Date: 12/21/16.

Accession Number: 20161221-5405.

Comments Due: 5 p.m. ET 1/11/17.

Docket Numbers: ER17-606-000.

Applicants: NorthWestern Corporation.

Description: § 205(d) Rate Filing: SA 642 4th Rev—NITSA with General Mills Operations LLC to be effective 3/1/2017.

Filed Date: 12/21/16.

Accession Number: 20161221-5406.

Comments Due: 5 p.m. ET 1/11/17.

Docket Numbers: ER17-607-000.

Applicants: NorthWestern Corporation.

Description: § 205(d) Rate Filing: SA 666 4th Rev—NITSA with Suiza Dairy to be effective 3/1/2017.

Filed Date: 12/21/16.

Accession Number: 20161221-5408.

Comments Due: 5 p.m. ET 1/11/17.

Docket Numbers: ER17-608-000.

Applicants: NorthWestern Corporation.

Description: § 205(d) Rate Filing: SA 760 2nd Rev—NITSA with Beartooth Electric Cooperative to be effective 3/1/2017.

Filed Date: 12/22/16.

Accession Number: 20161222-5005.

Comments Due: 5 p.m. ET 1/12/17.

Docket Numbers: ER17-609-000.

Applicants: NorthWestern Corporation.

Description: § 205(d) Rate Filing: SA 767 3rd Rev—NITSA with Basin Electric Power Cooperative to be effective 3/1/2017.

Filed Date: 12/22/16.

Accession Number: 20161222-5007.

Comments Due: 5 p.m. ET 1/12/17.

Docket Numbers: ER17-610-000.

Applicants: NorthWestern Corporation.

Description: § 205(d) Rate Filing: SA 243 11th Rev—NITSA with CHS Inc. to be effective 3/1/2017.

Filed Date: 12/22/16.

Accession Number: 20161222-5009.

Comments Due: 5 p.m. ET 1/12/17.

Docket Numbers: ER17-611-000.

Applicants: Pacific Gas and Electric Company.

Description: § 205(d) Rate Filing: Amendment to SMUD Fringe Area Service Agreement (RS 244) to be effective 1/1/2017.

Filed Date: 12/22/16.

Accession Number: 20161222-5015.

Comments Due: 5 p.m. ET 1/12/17.

Docket Numbers: ER17-612-000.

Applicants: Pacific Gas and Electric Company.

Description: § 205(d) Rate Filing: Revisions to City and County of San Francisco Hunters Point WDT SA (SA 36) to be effective 12/22/2016.

Filed Date: 12/22/16.

Accession Number: 20161222-5017.

Comments Due: 5 p.m. ET 1/12/17.

Docket Numbers: ER17-613-000.

Applicants: New York State Reliability Council, L.L.C., Whiteman Osterman & Hanna LLP.

Description: Informational Filing of the Revised Installed Capacity Requirement for the New York Control Area by the New York State Reliability Council, L.L.C.

Filed Date: 12/20/16.

Accession Number: 20161220-5390.

Comments Due: 5 p.m. ET 1/10/17.

Docket Numbers: ER17-614-000.

Applicants: Southwestern Public Service Company.

Description: § 205(d) Rate Filing: SPS GSEC-Cntrl Ld Intrpt Equip Agrmt 691 0.0.0 to be effective 4/16/2016.

Filed Date: 12/22/16.

Accession Number: 20161222-5052.

Comments Due: 5 p.m. ET 1/12/17.

Docket Numbers: ER17-616-000.

Applicants: NorthWestern Corporation.

Description: Tariff Cancellation: Notice of Cancellation—SA 777, Agreement with Western Energy Company to be effective 12/23/2016.

Filed Date: 12/22/16.

Accession Number: 20161222-5066.

Comments Due: 5 p.m. ET 1/12/17.

Docket Numbers: ER17-617-000.

Applicants: Midcontinent Independent System Operator, Inc., Consumers Energy Company.

Description: § 205(d) Rate Filing: 2016-12-22_SA 2892 Consumers Energy-Wolverine Power Supply 2nd Rev. WDS to be effective 3/31/2017.

Filed Date: 12/22/16.

Accession Number: 20161222-5070.

Comments Due: 5 p.m. ET 1/12/17.

Docket Numbers: ER17-618-000.

Applicants: PJM Interconnection, L.L.C.

Description: § 205(d) Rate Filing: Queue Position #AB2-004, Original Service Agreement No. 4584 to be effective 11/30/2016.

Filed Date: 12/22/16.

Accession Number: 20161222-5081.

Comments Due: 5 p.m. ET 1/12/17.

Docket Numbers: ER17-619-000.

Applicants: GenConn Energy LLC.

Description: § 205(d) Rate Filing: Revised Market-Based Rate Tariff to be effective 12/23/2016.

Filed Date: 12/22/16.

Accession Number: 20161222-5093.

Comments Due: 5 p.m. ET 1/12/17.

Docket Numbers: ER17-620-000.

Applicants: Boston Energy Trading and Marketing LLC.

Description: § 205(d) Rate Filing: Market-Based Rate Tariff Revisions to be effective 12/23/2016.

Filed Date: 12/22/16.

Accession Number: 20161222-5094.

Comments Due: 5 p.m. ET 1/12/17.

Docket Numbers: ER17-621-000.

Applicants: Energy Plus Holdings LLC.

Description: § 205(d) Rate Filing: Market-Based Rate Tariff Revisions to be effective 12/23/2016.

Filed Date: 12/22/16.

Accession Number: 20161222-5095.

Comments Due: 5 p.m. ET 1/12/17.

Docket Numbers: ER17-622-000.

Applicants: GenOn Energy Management, LLC.

Description: § 205(d) Rate Filing: Market-Based Rate Tariff Revisions to be effective 12/23/2016.

Filed Date: 12/22/16.

Accession Number: 20161222-5097.

Comments Due: 5 p.m. ET 1/12/17.

Docket Numbers: ER17-623-000.

Applicants: Rubicon NYP Corp.

Description: Baseline eTariff Filing: Initial MBR to be effective 1/30/2017.

Filed Date: 12/22/16.

Accession Number: 20161222-5099.

Comments Due: 5 p.m. ET 1/12/17.

Docket Numbers: ER17-624-000.

Applicants: Green Mountain Energy Company.

Description: § 205(d) Rate Filing: Market-Based Rate Tariff Revisions to be effective 12/23/2016.

Filed Date: 12/22/16.

Accession Number: 20161222-5100.

Comments Due: 5 p.m. ET 1/12/17.

Docket Numbers: ER17-625-000.

Applicants: Independence Energy Group LLC.

Description: § 205(d) Rate Filing: Market-Based Rate Tariff Revisions to be effective 12/23/2016.

Filed Date: 12/22/16.

Accession Number: 20161222-5101.

Comments Due: 5 p.m. ET 1/12/17.

Docket Numbers: ER17-626-000.

Applicants: Long Beach Peakers LLC.

Description: § 205(d) Rate Filing: Market-Based Rate Tariff Revisions to be effective 12/23/2016.

Filed Date: 12/22/16.

Accession Number: 20161222-5102.

Comments Due: 5 p.m. ET 1/12/17.

Docket Numbers: ER17-627-000.

Applicants: Mountain Wind Power, LLC.

Description: § 205(d) Rate Filing: Market-Based Rate Tariff Revisions to be effective 12/23/2016.

Filed Date: 12/22/16.

Accession Number: 20161222-5104.

Comments Due: 5 p.m. ET 1/12/17.

Docket Numbers: ER17-628-000.

Applicants: Mountain Wind Power II LLC.

Description: § 205(d) Rate Filing: Market-Based Rate Tariff Revisions to be effective 12/23/2016.

Filed Date: 12/22/16.

Accession Number: 20161222-5106.

Comments Due: 5 p.m. ET 1/12/17.

Docket Numbers: ER17-629-000.

Applicants: North Community Turbines LLC.

Description: § 205(d) Rate Filing: Market-Based Rate Tariff Revisions to be effective 12/23/2016.

Filed Date: 12/22/16.

Accession Number: 20161222-5111.

Comments Due: 5 p.m. ET 1/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2016.
Nathaniel J. Davis, Sr.,
Deputy Secretary.

[FR Doc. 2016-31533 Filed 12-28-16; 8:45 am]

BILLING CODE 6717-01-P